DEPARTMENT OF ENERGY

Federal Energy Regulatory Commission

Combined Notice of Filings #1

November 1, 2005.

Take notice that the Commission received the following electric rate filings.

Docket Numbers: ER04-691-065.

Applicants: Midwest Independent Transmission System Operator, Inc.

Description: Midwest Independent Transmission System Operator, Inc submits revisions to the Midwest ISO's Open Access Transmission & Energy Markets Tariff, Third Revised Volume No. 1.

Filed Date: 10/27/2005.

Accession Number: 20051031-0046.

Comment Date: 5 p.m. eastern time on Thursday, November 17, 2005.

Docket Numbers: ER05-1122-002.

Applicants: FirstEnergy Nuclear Generation Corp.

Description: FirstEnergy Nuclear Generation Corp submits Substitute Original Sheet No. 1 to FERC Electric Tariff, Original Volume No. 1.

Filed Date: 10/27/2005.

Accession Number: 20051031-0041.

Comment Date: 5 p.m. eastern time on Thursday, November 17, 2005.

Docket Numbers: ER05-1409-001.

Applicants: The United Illuminating Company.

Description: The United Illuminating Co submits information in support of the 8/30/05 rate filing re the Middletown-Norwalk Project.

Filed Date: 10/26/2005.

Accession Number: 20051028-0113.

Comment Date: 5 p.m. eastern time on Wednesday, November 16, 2005.

Docket Numbers: ER05-1484-001.

Applicants: XCel Energy Services, Inc.

Description: XCel Energy Services, Inc submits an errata to their 9/15/05 connection agreements to correct a typographical error found in proposed Service Agreement 224—NSP et al.

Filed Date: 10/26/2005.

Accession Number: 20051028-0110.

Comment Date: 5 p.m. eastern time on Wednesday, November 16, 2005.

Docket Numbers: ER05-1519-001.

Applicants: Southwest Power Pool, Inc.

Description: Southwest Power Pool, Inc submits a corrected version of their 9/30/05 filing of an executed service agreement for network integration transmission service et al with American Electric Power Service Corp.

Filed Date: 10/26/2005.

Accession Number: 20051028-0112.

Comment Date: 5 p.m. eastern time on Wednesday, November 16, 2005.

Docket Numbers: ER05-191-002.

Applicants: Perryville Energy Partners, L.L.C.

Description: Perryville Energy Partners, L.L.C. submits a Second Substitute First Revised Sheet No. 22 to its FERC Electric Tariff, Original Volume No. 2.

Filed Date: 10/19/2005.

Accession Number: 20051024-0012.

Comment Date: 5 p.m. eastern time on Thursday, November 10, 2005.

Docket Numbers: ER06-67-000.

Applicants: Idaho Power Company.

Description: Idaho Power Co submits a Contract Demand Notice by Seattle City Light, to be effective 1/1/06.

Filed Date: 10/26/2005.

Accession Number: 20051028-0118.

Comment Date: 5 p.m. eastern time on Wednesday, November 16, 2005.

Docket Numbers: ER06-68-000.

Applicants: United Power, Inc.

Description: United Power Inc advises that due to amendments to section 201(f) of the Federal Power Act, it is not a public utility.

Filed Date: 10/26/2005.

Accession Number: 20051028-0119.

Comment Date: 5 p.m. eastern time on Wednesday, November 16, 2005.

Docket Numbers: ER06-69-000.

Applicants: ISO New England Inc.

Description: ISO New England Inc, submits First Revised Sheet 609 et al. to FERC Electric Tariff No. 3, effective 10/27/05 and requests waiver of the 60-day prior notice requirement.

Filed Date: 10/26/2005.

Accession Number: 20051028-0120.

Comment Date: 5 p.m. eastern time on Wednesday, November 16, 2005.

Docket Numbers: ER06-70-000.

Applicants: ISO New England Inc.

Description: ISO New England Inc and Northeast Utilities Service Co submits on behalf of Connecticut Light and Power Co executed Standard Large Generator Interconnection Agreement w/Kleen Energy Systems, L.L.C.

Filed Date: 10/27/2005.

Accession Number: 20051028-0094.

Comment Date: 5 p.m. eastern time on Thursday, November 17, 2005.

Docket Numbers: ER06-71-000.

Applicants: Southwestern Public Service Company.

Description: XCel Energy Services Inc on behalf of Southwestern Public Service Co submits revisions to its Rate Schedule No. 118.

Filed Date: 11/27/2005.

Accession Number: 20051031-0042.

Comment Date: 5 p.m. eastern time on Thursday, November 17, 2005.

Docket Numbers: ER06-72-000.

Applicants: PJM Interconnection L.L.C.

Description: PJM Interconnection L.L.C. submits an executed interconnection service agreement among PJM, Conectiv Delmarva Generation, Inc and Delmarva Power & Light Co and a notice of cancellation for an interim interconnection service agreement, with respect to Hay Road Unit 2.

Filed Date: 10/27/2005.

Accession Number: 20051031-0054.

Comment Date: 5 p.m. eastern time on Thursday, November 17, 2005.

Docket Numbers: ER06-73-000.

Applicants: PJM Interconnection L.L.C.

Description: PJM Interconnection, L.L.C. submits an executed interconnection service agreement among PJM, Conectiv Delmarva Generation, Inc and Delmarva Power & Light Co and a notice of cancellation for an interim interconnection service agreement, with respect to Hay Road Units 1 and 3.

Filed Date: 10/27/2005.

Accession Number: 20051031-0043.

Comment Date: 5 p.m. eastern time on Thursday, November 17, 2005.

Docket Numbers: ER96-149-011.

Applicants: Dartmouth Power Associates Limited Partnership.

Description: Dartmouth Power Associates, LP's notice of change in status.

Filed Date: 10/26/2005.

Accession Number: 20051028-0111.

Comment Date: 5 p.m. eastern time on Wednesday, November 16, 2005.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6149 Filed 11-4-05; 8:45 am]

BILLING CODE 6717-01-P